DEPARTMENT OF COMMERCE

International Trade Administration

[A-570-863]

Honey From the People's Republic of China: Initiation of New Shipper Antidumping Duty Reviews

AGENCY: Import Administration, International Trade Administration, Department of Commerce.

ACTION: Initiation of new shipper antidumping duty reviews.

EFFECTIVE DATE: February 6, 2004.

FOR FURTHER INFORMATION CONTACT: Shireen Pasha or Brandon Farlander at (202) 482-0913 or (202) 482-0182, respectively; Antidumping and Countervailing Duty Enforcement Group III, Import Administration, International Trade Administration, U.S. Department of Commerce, 14th Street and Constitution Avenue, NW., Washington, DC 20230.

SUPPLEMENTARY INFORMATION:

Background

The Department received timely requests from the following companies: Anhui Honghui Foodstuff (Group) Co., Ltd. (Anhui Honghui), Eurasia Bee's Products Co., Ltd. (Eurasia), Foodworld International Club Limited (Foodworld), Inner Mongolia Youth Trade Development Co., Ltd. (Inner Mongolia Youth), Jiangsu Kanghong Natural Healthfoods Co., Ltd. (Jiangsu Kanghong), and Shanghai Shinomiel International Trade Corporation (Shanghai Shinomiel), in accordance with 19 CFR 351.214(c), for new shipper reviews of the antidumping duty order on honey from the People's Republic of China (PRC), which has a December annual anniversary month and a June semiannual anniversary month. See Notice of Amended Final Determination of Sales at Less Than Fair Value and Antidumping Duty Order; Honey from the People's Republic of China, 66 FR 63670 (December 10, 2001). Anhui Honghui identified itself as both the exporter and producer of the subject merchandise. Eurasia identified itself as the exporter and producer of the subject merchandise, as well as the exporter of subject merchandise produced by its supplier Chuzhou Huadi Foodstuffs Co., Ltd. (Chuzhou). Foodworld identified itself as the exporter of honey produced by its producer Anhui Tianxin Bee Products Co., Ltd. (Anhui Tianxin). Inner Mongolia Youth identified itself as the exporter of the subject merchandise produced by Qinhuangdao Municipal Dafeng Industrial Co. Ltd. (Qinhuangdao). Jiangsu Kanghong identified itself as both the exporter and producer of the subject merchandise. Shanghai Shinomiel identified itself as the exporter of subject merchandise produced by Hangzhou Green Forever Apiculture Co. (Hangzhou Green), and Hubei Yangzijian Apiculture Co. (Hubei Yangzijian).

As required by 19 CFR 351.214(b)(2)(i), (ii), and (iii)(A), Anhui Honghui, Eurasia, Foodworld, Inner Mongolia, Jiangsu Kanghong, and Shanghai Shinomiel certified that they did not export honey to the United States during the period of investigation (POI), and that they have never been affiliated with any exporter or producer which exported honey during the POI. Furthermore, Anhui Honghui, Eurasia, Foodworld, Inner Mongolia, Jiangsu Kanghong, and Shanghai Shinomiel certified that their export activities are not controlled by the central government of the PRC, satisfying the requirements of 19 CFR 351.214(b)(2)(iii)(B). Pursuant to the Department's regulations at 19 CFR 351.214(b)(2)(iv), Anhui Honghui, Eurasia, Inner Mongolia, Jiangsu Kanghong, and Shanghai Shinomiel submitted documentation establishing the date on which the subject merchandise was first entered for consumption in the United States, the volume of that first shipment, and the date of the first sale to an unaffiliated customer in the United States. We note that Foodworld only submitted the volume and date of the first sale to an unaffiliated customer in the United States, and did not submit documentation establishing the date the merchandise was first entered for consumption in the United States. Moreover, Shanghai Shinomiel indicated in its new shipper review request that both of its suppliers (Hubei Yangzijian and Hangzhou Green Forever) had also previously supplied an exporter that exported subject merchandise to the United States during the period of investigation and subsequently.

On December 19, 2003, the Department issued pre-initiation supplemental questionnaires to all companies to clarify company information submitted in their requests to the Department for new shipper reviews. We received supplemental questionnaire responses from each company. In Foodworld's supplemental questionnaire response, dated December 31, 2003, Foodworld indicated that its shipment had not entered the United States during the POR, but that it was expected to arrive in the United States before the end of the year, and that the official date of entry would likely be in January 2004. Further, Foodworld indicated that it would submit a copy of the Customs Form 7501 when it became available. As of January 30, 2004, Foodworld had not submitted to the Department a copy of the Customs Form 7501 for this shipment.

The Department conducted multiple Customs run queries in December 2003 and January 2004 to determine whether Foodworld's shipment had officially entered the United States via assignment of an entry date in the Customs database by the U.S. Customs and Border Protection (CBP). We also made multiple phone calls to CBP, including a phone call on January 30, 2004, to inquire whether this shipment had entered the United States. As of January 30, 2004, and based on available information on the record, it appears that Foodworld's shipment did not enter the United States for consumption during the POR, nor has it entered by the initiation date, which is 60 days after the end of the POR. See Memoranda to the File through Richard O. Weible, “New Shipper Review Initiation Checklist,” dated January 30, 2004, for Foodworld.

Scope

The merchandise under review is honey from the PRC. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise under review is currently classifiable under item 0409.00.00, 1702.90.90, and 2106.90.99 of the Harmonized Tariff Schedule of the United States (HTSUS). Although the HTSUS subheading is provided for convenience and customs purposes, the written description of the merchandise under review is dispositive.

Initiation of Review

In accordance with section 751(a)(2)(B) of the Act, as amended, and 19 CFR 351.214(d)(1), and based on information on the record, we are initiating new shipper reviews for Anhui Honghui, Eurasia, Inner Mongolia, and Jiangsu Kanghong. See Memoranda to the File through Richard O. Weible, “New Shipper Review Initiation Checklist,” dated January 30, 2004, for each respective company. We intend to issue the preliminary results of these reviews not later than 180 days after the date on which these reviews were initiated, and the final results of these reviews within 90 days after the date on which the preliminary results were issued.

The Department is not initiating new shipper reviews for the remaining two companies (i.e., Foodworld and Shanghai Shinomiel). With regard to Foodworld, as noted above, Foodworld's shipment did not enter the United States during the POR. Under section 351.214(f)(2)(ii) of the Department's regulations, when the sale of the subject merchandise occurs within the POR, but the entry occurs after the normal POR, the POR may be extended unless it would be likely to prevent the completion of the review within the time limits set by the Department's regulations. While the regulations do not provide a definitive date by which the entry must occur, the preamble to the Department's regulations state that both the entry and the sale should occur during the POR, and that only under “appropriate” circumstances should the POR be extended when the entry is made after the POR. See Antidumping Duties; Countervailing Duties; Final Rule, 62 FR 27296, 27319 (May 19, 1997). In this instance, Foodworld's shipment has not entered by the date of initiation. Accordingly, we are not initiating the new shipper review request for Foodworld for the period December 1, 2002 through November 30, 2003. For further information, see the Letter to Foodworld from Richard O. Weible, dated January 30, 2004. See Memoranda to the File through Richard O. Weible, “New Shipper Review Initiation Checklist,” dated January 30, 2004, for Foodworld. We note that an administrative review was requested for Foodworld. See Initiation of Antidumping and Countervailing Duty Administrative Reviews and Request for Revocation in Part, 69 FR 3117 (January 22, 2004).

With regard to Shanghai Shinomiel, we note that both of its suppliers (Hangzhou Green Forever and Hubei Yangzijian) previously supplied subject merchandise to an exporter during the original investigation, which was subsequently exported to the United States. Moreover, the Department examined the factors of production data for both of Shanghai Shinomiel's suppliers in the original investigation. For further information, see the Letter to Shanghai Shinomiel from Richard O. Weible, dated January 30, 2004. See Memoranda to File through Richard O. Weible, “New Shipper Review Initiation Checklist,” dated January 30, 2004.

Based on these facts, we determine that Shanghai Shinomiel is not a new shipper within the meaning of Section 751(a)(2)(B) of the Act, and section 351.214 of the Department's regulations. Because Shanghai Shinomiel's two suppliers had established a chain of distribution for exporting their subject merchandise to the United States during the POI, Shanghai Shinomiel may not claim new shipper status for merchandise supplied by these same two suppliers. We note that this decision is consistent with our established practice of limiting the benefits of new shipper reviews to particular producer/exporter combinations. See Import Administration Policy Bulletin 03.2—Combination Rates in New Shipper Reviews (March 4, 2003). We note also that an administrative review was requested for Shanghai Shinomiel. See Initiation of Antidumping and Countervailing Duty Administrative Reviews and Request for Revocation in Part, 69 FR 3117 (January 22, 2004).

Pursuant to 19 CFR 351.214(g)(1)(i)(A) of the Department's regulations, the period of review (POR) for a new shipper review initiated in the month immediately following the anniversary month will be the twelve-month period immediately preceding the anniversary month. Therefore, the POR for these new shipper reviews is:

Antidumping duty proceeding | Period to be reviewed
Exporter: Anhui Honghui Foodstuff (Group) Co., Ltd. Producer: Anhui Honghui Foodstuff (Group) Co., Ltd. | 12/01/02-11/30/03
Exporter: Eurasia Bee's Products Co., Ltd. Producer: Eurasia Bee's Products Co., Ltd. Producer: Chuzhou Huadi Foodstuffs Co., Ltd. | 12/01/02-11/30/03
Exporter: Inner Mongolia Youth Trade Development Co., Ltd. Producer: Qinhuangdao Municipal Dafeng Industrial Co., Ltd. | 12/01/02-11/30/03
Exporter: Jiangsu Kanghong Natural Healthfoods Co., Ltd. Producer: Jiangsu Kanghong Natural Healthfoods Co., Ltd. | 12/01/02-11/30/03

It is the Department's usual practice in cases involving non-market economies to require that a company seeking to establish eligibility for an antidumping duty rate separate from the country-wide rate to provide evidence of de jure and de facto absence of government control over the company's export activities. Accordingly, we will issue questionnaires to Anhui Honghui, Eurasia, Inner Mongolia, and Jiangsu Kanghong, including a separate rates section. The review will proceed if the responses provide sufficient indication that Anhui Honghui, Eurasia, Inner Mongolia, and Jiangsu Kanghong are not subject to either de jure or de facto government control with respect to their exports of honey. However, if Anhui Honghui, Eurasia, Inner Mongolia, and Jiangsu Kanghong do not demonstrate their eligibility for a separate rate, then they will be deemed not separate from other companies that exported during the POI and the new shipper review of that respondent will be rescinded.¹

¹ We note that Anhui Honghui, Eurasia, Inner Mongolia, and Jiangsu Kanghong requested administrative reviews, in addition to the new shipper reviews. If for any reason the Department rescinds any of the aforementioned companies' new shipper reviews, we will then include any such company in the administrative review.

In accordance with section 751(a)(2)(B)(iii) of the Act and 19 CFR 351.214(e), we will instruct the U.S. Bureau of Customs and Border Protection (BCBP) to allow, at the option of the importer, the posting, until the completion of the review, of a single entry bond or security in lieu of a cash deposit for certain entries of the merchandise exported by the above-listed companies, e.g.: Exporter Anhui Honghui certified that it produced and exported the subject merchandise for the sale under review; thus, we will instruct Customs to limit Anhui Honghui's bonding option only to entries of such merchandise for which it is both the producer and exporter. Exporter Eurasia certified itself and Chuzhou as the producer of subject merchandise for the sale under review; thus, we will instruct Customs to limit the bonding option only to entries of subject merchandise exported by Eurasia and produced either by Eurasia or Chuzhou. Exporter Inner Mongolia Youth certified Qinhuangdao as the producer of subject merchandise; thus, we will limit the bonding option to entries of subject merchandise produced by Qinhuangdao and exported by Inner Mongolia Youth. Exporter Jiangsu Kanghong certified that it produced and exported the subject merchandise; thus, we will instruct Customs to limit Jiangsu Kanghong's bonding option only to entries of subject merchandise for which it is both the producer and exporter.

Interested parties that need access to proprietary information in these new shipper reviews should submit applications for disclosure under administrative protective orders in accordance with 19 CFR 351.305 and 351.306. This initiation and notice are in accordance with section 751(a) of the Act (19 U.S.C. 1675(a)) and 19 CFR 351.214(d).

Dated: January 30, 2004.
Joseph A. Spetrini,
Deputy Assistant Secretary for Import Administration, Group III.

[FR Doc. 04-2630 Filed 2-5-04; 8:45 am]

BILLING CODE 3510-DS-P